FEDERAL COMMUNICATIONS COMMISSION

[GN Docket No. 18-122, DA 20-827; FRS 16981]

Wireless Telecommunications Bureau Seeks Comment on Whether Proposed 3.7-4.2 GHz Band Relocation Coordinator Satisfies Selection Criteria

AGENCY: Federal Communications Commission.

ACTION: Notice.

SUMMARY: In this document, the Wireless Telecommunications Bureau (Bureau) seeks comment on whether the proposed 3.7-4.2 GHz band Relocation Coordinator satisfies the selection criteria established by the Commission in the 3.7 GHz Report and Order.

DATES: Comments are due August 18, 2020 and reply comments are due August 28, 2020.

ADDRESSES: You may submit comments, identified by GN Docket No. 18-122, by any of the following methods:

• Electronic Filers: Elections may be filed electronically using the internet by accessing the ECFS: http://apps.fcc.gov/ecfs/ in docket number GN 18-122.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 445 12th Street SW, Washington DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

• During the time the Commission's building is closed to the general public and until further notice, if more than one docket or rulemaking number appears in the caption of a proceeding, paper filers need not submit two additional copies for each additional docket or rulemaking number; an original and one copy are sufficient.

FOR FURTHER INFORMATION CONTACT: Susan Mort, Wireless Telecommunications Bureau, at Susan.Mort@fcc.gov or 202-418-2429.

SUPPLEMENTARY INFORMATION: This is a summary of the Commission's document (Public Notice), GN Docket No. 18-122, DA 20-827, released on August 3, 2020. The complete text of this document is available on the Commission's website at https://www.fcc.gov/document/wtb-seeks-comment-c-band-relocation-coordinator-selection or by using the search function for GN Docket No. 18-122 on the Commission's ECFS web page at www.fcc.gov/ecfs.

Pursuant to §§ 1.415 and 1.419 of the Commission's rules, 47 CFR 1.415, 1.419, interested parties may file comments or reply comments on or before the dates indicated on the first page of this document.

People with Disabilities: To request materials in accessible formats for people with disabilities (braille, large print, electronic files, audio format), send an email to fcc504@fcc.gov or call the Consumer & Governmental Affairs Bureau at 202-418-0530 (voice), 202-418-0432 (tty).

Synopsis

With this Public Notice, the Wireless Telecommunications Bureau (the Bureau) seeks comment on whether the proposed 3.7-4.2 GHz band Relocation Coordinator satisfies the selection criteria established by the Commission in the 3.7 GHz Report and Order.

On March 3, 2020, the Commission released the 3.7 GHz Band Report and Order, which adopted new rules to make available 280 megahertz of mid-band spectrum for flexible use through a Commission-administered public auction of overlay licenses, plus a 20 megahertz guard band, throughout the contiguous United States by transitioning existing services out of the lower portion and in to the upper 200 megahertz of the C-band.

The 3.7 GHz Report and Order required eligible Fixed Satellite Service (FSS) space station operators to select, no later than July 31, 2020, a Relocation Coordinator that will be responsible for managing the overall transition and coordinating relocation actions among eligible FSS space station operators, incumbent FSS earth station operators, and new 3.7 GHz Service overlay licensees. The 3.7 GHz Report and Order required that the Relocation Coordinator “must be able to demonstrate that it has the requisite expertise to perform the duties required, which will include: (1) Coordinating the schedule for clearing the band; (2) performing engineering analysis, as necessary, to determine necessary earth station migration actions; (3) assigning obligations, as necessary, for earth station migrations and filtering; (4) coordinating with overlay licensees throughout the transition process; (5) assessing the completion of the transition in each PEA and determining overlay licensees' ability to commence operations; and (6) mediating scheduling disputes.”

On July 31, 2020, eligible space station operators announced that they had selected RSM US LLP (RSM) to serve as the Relocation Coordinator. We seek comment on whether RSM satisfies the criteria established by the Commission in the 3.7 GHz Report and Order.

As directed by the Commission in the 3.7 GHz Report and Order, following the comment period, the Bureau will issue an order announcing whether the selection criteria have been satisfied. Should the Bureau be unable to find that the criteria have been satisfied, the 3.7 GHz Report and Order required that the selection process will start over and the search committee of eligible space station operators will submit a new proposed entity.

Federal Communications Commission
Amy Brett,
Chief of Staff, Competition and Infrastructure Policy Division, Wireless Telecommunications Bureau.

[FR Doc. 2020-17291 Filed 8-6-20; 8:45 am]

BILLING CODE 6712-01-P